NUCLEAR REGULATORY COMMISSION

[Docket No. 50-423]

Dominion Nuclear Connecticut, Inc.; Notice of Issuance of Amendment to Facility Operating License and Final Determination of No Significant Hazards Consideration

The U.S. Nuclear Regulatory Commission (Commission) has issued Amendment No. 242 to Facility Operating License No. NPF-49 issued to Dominion Nuclear Connecticut, Inc. (the licensee), which revised the Technical Specifications and License for operation of the Millstone Power Station, Unit 3 (the facility) located in New London County, Connecticut. The amendment was effective as of the date of its issuance.

The amendment increased the Millstone Power Station, Unit No. 3 (MPS3) maximum steady-state reactor core power level from the previous licensed thermal power level of 3,411 megawatts thermal (MWt) to 3,650 MWt, which is an increase of approximately 7 percent.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment and Proposed No Significant Hazards Consideration Determination and Opportunity for Hearing in connection with this action was published in the Federal Register on January 15, 2008 (73 FR 2549). A request for a hearing was filed on March 17, 2008, by the Connecticut Coalition Against Millstone (CCAM) and Nancy Burton. The Atomic Safety and Licensing Board (ASLB) issued an Order dated June 4, 2008. The ASLB Order denied CCAM and Nancy Burton's request for an evidentiary hearing. On June 16, 2008, CCAM and Nancy Burton filed an appeal to the Commission regarding the ASLB Order.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the Safety Evaluation related to this action. Accordingly, as described above, the amendment has been issued and made immediately effective and any hearing will be held after issuance.

The Commission has prepared a Final Environmental Assessment (73 FR 46054), published on August 7, 2008, related to the action and has concluded that an environmental impact statement is not warranted because there will be no environmental impact attributable to the action beyond that which has been predicted and described in the Commission's Final Environmental Statement for the facility dated December 1984.

For further details with respect to this action, see the application for amendment dated July 13, 2007, as supplemented by letters dated July 13, September 12, November 19, December 13, and December 17, 2007; January 10 (4 letters), January 11 (4 letters), January 14, January 18 (5 letters), January 31, February 25 (2 letters), March 5, March 10 (2 letters), March 25, March 27, April 4, April 24, April 29, May 15, May 20, May 21, July 10, and July 16, 2008, which are available for public inspection at the Commission's PDR, located at One White Flint North, Public File Area O1 F21, 11555 Rockville Pike (first floor), Rockville, Maryland. Publicly available records will be accessible electronically from the Agencywide Documents Access and Management System's (ADAMS) Public Electronic Reading Room on the Internet at the NRC Web site, http://www.nrc.gov/reading-rm.html. Persons who do not have access to ADAMS or who encounter problems in accessing the documents located in ADAMS should contact the NRC PDR Reference staff by telephone at 1-800-397-4209, 301-415-4737, or by e-mail to pdr@nrc.gov.

Dated at Rockville, Maryland, this 12th day of August 2008.
For the Nuclear Regulatory Commission.
John G. Lamb,
Senior Project Manager, Plant Licensing Branch 1-2, Division of Operating Reactor Licensing, Office of Nuclear Reactor Regulation.

[FR Doc. E8-19239 Filed 8-19-08; 8:45 am]

BILLING CODE 7590-01-P